DEPARTMENT OF COMMERCE

National Oceanic and Atmospheric Administration

Advisory Committee for the Sustained National Climate Assessment (SNCA)

AGENCY: Office of Oceanic and Atmospheric Research (OAR) National Oceanic and Atmospheric Administration (NOAA) Department of Commerce (DOC)

ACTION: Notice of Federal Advisory Committee open meeting.

SUMMARY: The Advisory Committee for the Sustained National Climate Assessment (SNCA) was established by a Decision Memorandum, dated August 20, 2015. The Committee's mission is to provide advice on sustained National Climate Assessment activities and products to the Under Secretary of Commerce for Oceans and Atmosphere (Under Secretary), who will forward the advice to the Director of the Office of Science Technology Policy (OSTP). The Committee will advise on the engagement of stakeholders and on sustained assessment activities and the quadrennial National Climate Assessment (NCA4) report.

Time and Date: (1) Public Hearing. The meeting will be held on September 13, 2016 from 12:30 p.m. to 5:00 p.m., September 14, 2016 from 8:00 a.m. to 5:00 p.m., and September 15, 2016 from 8:00 a.m. to 12:00 p.m. There will be a 30-minute public comment period on September 13 from 4:25 to 4:55 p.m. These times and the agenda topics described below are subject to change. Please refer to the Web page http://sncaadvisorycommittee.noaa.gov/Meetings.aspx for the most up-to-date meeting times and agenda.

(2) Written Public Comment. Written public comment regarding Advisory Committee for the Sustained National Climate Assessment meeting materials can be submitted to the Advisory Committee Executive Director's Office by September 6, 2016, to provide sufficient time for Advisory Committee review. Written comments received by the Executive Director after September 6, 2016, will be distributed to the Advisory Committee and may not be reviewed prior to the meeting date.

Place: The meeting will be held at Department of Commerce (DOC), Herbert C. Hoover Building (HCHB) Room 48019, 1401 Constitution Avenue NW., Washington, DC. Please note admittance instructions under the SUPPLEMENTARY INFORMATION section of this notice.

SUPPLEMENTARY INFORMATION:

Meeting Accessibility: Pursuant to 41 CFR 102-3.140 through 102-3.165 and the availability of space, the meeting scheduled for on September 13, 2016 from 12:30 p.m. to 5:00 p.m., September 14, 2016 from 8:00 a.m. to 5:00 p.m., and September 15, 2016 from 8:00 a.m. to 12:00 p.m. at DOC is open to the public

New Visitor Access Requirement: For participants attending in person, please note that federal agencies, including DOC, can only accept a non-expired state-issued driver's license or identification card for access to federal facilities if such license or identification card is issued by a state that is compliant with the REAL ID Act of 2005 (Pub. L. 109-13), or by a state that has an extension for REAL ID compliance. DOC currently accepts other forms of federal-issued identification in lieu of a state-issued driver's license. Driver's licenses from six states and territories are not compliant and will not be accepted as identification: Minnesota, Illinois, Missouri, Washington, and American Samoa. In addition, DOC will accept only enhanced driver's licenses (identified by the American Flag on the face of the card) from two states: Minnesota and Washington State. For a list of alternative identification, please visit: http://www.nist.gov/public_affairs/visitor/.

Non U.S. Citizens Please Note: All foreign national visitors who do not have permanent resident status and who wish to register for the above meeting must supply additional information. Failure to provide this information prior to arrival will result, at a minimum, in significant delays (up to 24 hours) in entering the facility. Authority to gather this information is derived from United States Department of Commerce Department Administrative Order (DAO) number 207-12. When on-line registration is open, the required Foreign National form and instructions for transmittal via secure file transfer will be available. The Foreign National form needs to be submitted at least 7 business days in advance of the meeting.

Written Comments: Pursuant to section 10(a)(3) of the FACA and 41 CFR 102-3.105(j) and 102-3.140, the public or interested organizations may submit written comments to the Advisory Committee in response to the stated agenda and meeting material. Meeting material, including work products will be made available on the Advisory Committee's Web site: http://sncaadvisorycommittee.noaa.gov/Meetings.aspx.

Oral Comments: In addition to written statements, members of the public may present oral comments at 4:25 p.m. on September 13, 2016. Those individuals interested in making oral comments should indicate their intent through the registration form and time will be allocated on a first-come, first-served basis. Time allotted for an individual's comment period will be limited to no more than 3 minutes. If the number of registrants requesting to speak is greater than can be reasonably accommodated during the scheduled public comment periods, written comments can be submitted in lieu of oral comments. The Advisory Committee expects that public statements presented at its meetings will not be repetitive of previously submitted verbal or written statements.

Registration: Individuals and entities who wish to attend the public meeting are required to pre-register for the meeting by completing the online registration form: http://sncaadvisorycommittee.noaa.gov/Meetings.aspx. Anyone wishing to attend this meeting must register by 5:00 p.m. (EST), Tuesday, September 6, 2016. Registered attendees will receive security and campus instructions prior to the workshop. On-site registration will not be available for this meeting. Please note that seating is limited for public attendees, and will be granted on a first come first serve basis.

Additional Information: The Department of Commerce welcomes the attendance of the public at its advisory committee meetings and will make every effort to accommodate persons with physical disabilities or special needs. If you require special accommodations, please indicate your requirements on the online registration form.

FOR FURTHER INFORMATION CONTACT: Laura Letson, Advisory Committee for the SNCA Executive Director, SSMC3, Room 11359, 1315 East-West Highway, Silver Spring, MD 20910; Email: Laura.Letson@noaa.gov; or visit the Advisory Committee Web site http://sncaadvisorycommittee.noaa.gov1178.

Dated: August 24, 2016.
Jason Donaldson,
Chief Financial Officer, Office of Oceanic and Atmospheric Research, National Oceanic and Atmospheric Administration.

[FR Doc. 2016-20705 Filed 8-26-16; 8:45 am]

BILLING CODE 3510-22-P